DEPARTMENT OF THE INTERIOR

Fish and Wildlife Service

DEPARTMENT OF DEFENSE

Department of the Army; Corps of Engineers

South Bay Salt Pond Restoration Project, San Francisco Bay, CA

AGENCIES: Fish and Wildlife Service, Interior; U.S. Army Corps of Engineers, DoD.

ACTION: Notice of availability: Draft environmental impact statement/environmental impact report; request for comments.

SUMMARY: The U.S. Fish and Wildlife Service (Service) and the California Department of Fish and Game (CDFG) are proposing a restoration plan for 15,100 acres (6,111 hectares) of former commercial salt ponds in south San Francisco Bay. This South Bay Salt Pond (SBSP) Restoration Project would use a combination of restored tidal marsh, managed ponds, flood control measures and public access features to meet the three goals of the plan: to restore wildlife habitat, to provide flood protection and to provide wildlife-oriented public access. The ponds are located at the Don Edwards San Francisco Bay National Wildlife Refuge and at the Eden Landing State Ecological Reserve.

The Draft Environmental Impact Statement/Environmental Impact Report (EIS/EIR) includes program-level evaluation of the SBSP long-term alternatives as well as project-level analysis of the first phase of restoration (the Phase 1 actions).

The Draft EIS/EIR has been prepared jointly by the Service, the U.S. Army Corps of Engineers (Corps) and the CDFG to analyze the impacts of the SBSP. The EIS/EIR presents a limited evaluation of the potential impacts associated with the list of possible South San Francisco Bay Shoreline Study (Shoreline Study) actions. The Shoreline Study area includes the SBSP Restoration Project area as well as shoreline and floodplain areas in the counties of Alameda, San Mateo, and Santa Clara. The Corps and non-Federal sponsors will prepare an EIS/EIR for the Shoreline Study, which will tier off of this EIS/EIR and cover specific project-level actions.

Note that the Draft SBSP EIS/EIR is being submitted for public review under separate Federal and State processes. The following addresses and due dates are applicable to the Federal NEPA review process:

DATES: For the Federal process, written comments under the National Environmental Policy Act should be received on or before April 23, 2007. We will hold two public meetings in March 2007 to solicit comments on the draft Environmental Impact Statement. Dates, times, and addresses for the public meetings follow.

• March 28, 2007, 6 p.m. to 8 p.m., NASA Research Center, Building 943 (Eagle Room), Moffett Field, CA 94035.

• March 29, 2007, 6 p.m. to 8 p.m., Centennial Hall, 22292 Foothill Boulevard, Room 4, Hayward, CA 94541.

Call Anna Schneider at (510) 286-1015 if directions are needed. Persons needing reasonable accommodations in order to attend and participate in these public meetings should contact Anna Schneider at (510) 286-1015 sufficiently in advance of the meeting to allow time to process the request.

ADDRESSES: Written comments and requests for information should be sent to Clyde Morris, Refuge Manager, Don Edwards San Francisco Bay NWR, 9500 Thornton Avenue, Newark, CA 94560. Written comments may also be sent by facsimile to (510) 792-5828 or through the public comments link on the South Bay Salt Pond Restoration Project Web site, at http://www.southbayrestoration.org/Question_Comment.html. All comments received, including names and addresses, will become a part of the administrative record and be made available to the public.

FOR FURTHER INFORMATION CONTACT: Questions regarding the Federal National Environmental Policy Act (NEPA) process may be directed to Clyde Morris, Refuge Manager, Don Edwards San Francisco Bay NWR, at the above address; telephone (510) 792-0222, or Yvonne LeTellier, Project Manager, U.S. Army Corps of Engineers, 1455 Market Street, San Francisco, CA 94103; (415) 503-6744. Questions related to the California Environmental Quality Act (CEQA) process may be directed to John Krause, California Department of Fish and Game, Region 3 Headquarters, P.O. Box 47, Yountville, CA 94599; telephone (707) 944-5500.

SUPPLEMENTARY INFORMATION:

Availability of Documents

Individuals wishing copies of the Draft EIS/EIR should contact the Service by letter, facsimile to the San Francisco Bay National Wildlife Refuge Complex or contact through the restoration project Web site (see ADDRESSES). The document is also available for public inspection, by appointment, during regular business hours, at the San Francisco Bay National Wildlife Refuge Complex, Fremont, California, U.S. Army Corps of Engineers, San Francisco, California, the California Dept. of Fish and Game, Region 3 Headquarters, 7329 Silverado Trail, Napa, CA 94558, and the Santa Clara Valley Water District, 5750 Almaden Expressway, San Jose, California, 95118. Copies are also available for public review at:

• Alviso Branch Library: 5050 North First St., San José, CA 95002, (408) 263-3626;

• City of Mountain View Library: 585 Franklin Street, Mountain View, CA 94041, (650) 903-6337;

• Palo Alto Main Library: 1213 Newell Road, Palo Alto, CA 94303, (650) 329-2436;

• Menlo Park Library: 800 Alma Street, Menlo Park, CA 94025, (650) 330-2500;

• Sunnyvale Public Library: 665 West Olive Avenue, Sunnyvale, CA 94086, (408) 730-7300;

• Hayward Public Library: 835 C Street, Hayward, CA 94541, (510) 293-8685; and

• Fremont Main Library: 2400 Stevenson Blvd, Fremont, CA 94538, (510) 745-1400.

The document may also be viewed on the restoration project Web site http://www.southbayrestoration.org.

Background

On March 16, 2003, the State of California and the Service acquired 15,100 acres of commercial salt ponds from Cargill, Inc. in South San Francisco Bay which are the subject of the SBSP. The purpose of the acquisition was to protect, restore and enhance the property for fish and wildlife, as well as to provide opportunities for wildlife-oriented recreation and education. Of the acquired lands, CDFG owns and manages the 5,500-acre Eden Landing pond complex and the Service owns the 8,000-acre Alviso pond complex and the 1,600-acre Ravenswood pond complex.

The SBSP Restoration Project was planned in close coordination with a related but separate project, the Shoreline Study. The Congressionally-authorized Shoreline Study will identify and recommend for Federal funding one or more projects for flood damage reduction, ecosystem restoration and related purposes such as public access. Because they have similar objectives and geographic scope and include restoration and flood management components, the planning and management of these two projects is being closely integrated. Planning for the Shoreline Study will be conducted through several stages referred to as Interim Feasibility Studies, and the Corps is currently developing alternatives for the first stage of the Shoreline Study (the Alviso Ponds and Santa Clara County Interim Feasibility Study) in partnership with the Study's non-Federal sponsors, the Santa Clara Valley Water District and the California Coastal Conservancy and in cooperation with the Service. Potential Shoreline Study actions include flood protection improvements, ecosystem restoration, and recreation and public access features, which may overlap considerably with proposed SBSP Restoration Project actions.

The Initial Stewardship Plan (ISP) is an interim plan now in operation to maintain and enhance the biological and physical conditions within the SBSP area in the interim period between the cessation of salt production and the implementation of the long-term restoration plan that will emerge from the SBSP Restoration Project planning process. Because the SBSP Restoration Project will be implemented in phases over time, some ponds may be managed under the ISP for many years. The ISP actions include construction and operation of water control structures to circulate bay waters through a series of pond clusters to maintain low salinity, provide wildlife habitat, and maintain at least the current level of flood protection. Three of the ponds' levees were breached to allow full tidal wetland restoration. Additionally, some ponds are managed as seasonal wetlands that are allowed to fill with rain water in the winter and dry through evaporation during the summer months while other ponds are operated as high salinity ponds to provide habitat for wildlife requiring those conditions. Certain ponds are still being managed by Cargill while they reduce the salinity levels by moving the saltiest brines to its plant site in Newark, California.

The actual long-term restoration of the salt ponds is the subject of the SBSP Restoration Project. Implementation of the long-term restoration plan is expected to be conducted in phases with some phases extending beyond 20 years. This EIS/EIR is programmatic, covering the long-term plan for the entire SBSP planning area and is project specific for the Phase 1 projects which will be implemented in the near term.

Alternatives Analyzed

The Draft EIS/EIR considers three programmatic alternatives for the SBSP: a No Action Alternative (Alternative A), a Managed Pond Emphasis Alternative (Alternative B), and a Tidal Emphasis Alternative (Alternative C).

Under the No Action alternative (Alternative A), the expected scenario at Year 50 is evaluated as if no long-term restoration plan is implemented. CDFG and the Service would continue to operate and maintain the ponds in a manner similar to the ISP, although it is assumed that CDFG and the Service would not have the funding to maintain full ISP operations over the 50-year planning horizon. No new public access or recreational facilities are proposed under this alternative.

Under the Managed Pond Emphasis Alternative (50 percent tidal habitat: 50 percent managed ponds by area) (Alternative B), the expected scenario at Year 50 would contain approximately 7,500 acres of tidal habitat and 7,500 acres of managed pond habitat. Approximately 20 percent of the managed ponds would be reconfigured to improve foraging, roosting, and nesting opportunities for shorebirds, waterfowl, and other waterbirds. In addition, Alternative B would provide a cohesive line of flood protection along the perimeter of the project area. This alternative would also provide public access and recreation features in the form of trails and viewing platforms, interpretive stations, waterfowl hunting, access to and interpretation of cultural resource features, opportunities for education and interpretation, non-motorized boat launching points and associated staging and parking areas.

Under the Tidal Emphasis Alternative (90 percent tidal habitat : 10 percent managed ponds by area), the expected scenario at Year 50 would contain approximately 13,400 acres of tidal habitat and 1,600 acres of managed pond habitat. All managed ponds in Alternative C would be reconfigured to substantially enhance foraging, roosting and nesting opportunities for shorebirds, waterfowl and other waterbirds. Flood protection under Alternative C would be similar to Alternative B, with the exception that the length of existing slough levees abandoned would increase in Alternative C. Alternative C would also provide public access and recreation features similar to those described for Alternative B.

Alternatives B and C are “bookends” that represent possible outcomes ranging from a 50:50 tidal to managed pond scenario to a 90:10 tidal to managed pond scenario. The optimal configuration of tidal habitat and managed ponds that achieves the SBSP objectives while avoiding significant impacts to environmental resources would fall somewhere between these bookends and would be guided by the Adaptive Management Plan, the cornerstone of the SBSP.

The Draft EIS/EIR also addresses, at the project level, Phase 1 of the SBSP. The Phase 1 actions are common elements of the long-term Alternatives B and C. Phase 1 actions would include a range of habitat types and early experiments that will be used to inform the Adaptive Management Plan. These include creating tidal, muted tidal and managed pond habitats as well as a variety of public-access features.

The Service and the Corps invite the public to comment on the Draft Environmental Impact Statement during a 45-day public comment period. The Service and the Corps will evaluate the comments submitted thereon to prepare a Final EIS/EIR. A decision will be made no sooner than 30 days after the publication of the Final EIS/EIR. It is anticipated that a Record of Decision will be issued by the Service in the fall of 2007.

This notice is provided pursuant to regulations for implementing the National Environmental Policy Act of 1969 (40 CFR 1506.6).

Dated: February 28, 2007.
Steve Thompson,
Manager, California/Nevada Operations, Sacramento, CA.
Dated: March 1, 2007.
Craig W. Kiley,
Lieutenant Colonel, U.S. Army, Commanding.

[FR Doc. 07-1061 Filed 3-8-07; 8:45 am]

BILLING CODE 4310-55-P